DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2006, there was one application approved. This notice also includes information on four applications, two approved in November 2005 and two approved in January 2006, inadvertently left off the November 2005 and January 2006 notices, respectively. Additionally, two approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 58). This notice is published pursuant to paragraph d of § 158.29.

PFC Applications Approved

Public Agency: Metropolitan Airports Commission, Minneapolis, Minnesota.

Application Number: 05-09-C-00-MSP.

Application Type: Impose and use a PFC.

PFC Level: $4.50.

Total PFC Revenue Approved in this Decision: $7,315,783.

Earliest Charge Effective Date: December 1, 2018.

Estimated Charge Expiration Date: February 1, 2019.

Class of Air Carriers Not Required to Collect PFC's: Air taxi/commercial operators filing FAA Form 1800-31.

Determination: Approved. Based on information contained in the public agency's application, the FAA has determined that the approved class accounts for less than 1 percent of the total annual enplanements at Minneapolis-St. Paul International Airport.

Brief Description of Projects Approved for Collection and Use at a $3.00 PFC Level:

Fire department structural pumper.

Maintenance department edge light plow.

Maintenance department runway liquid deicers.

Maintenance department airfield sanders.

Maintenance department airfield snow blowers.

Maintenance department multi-function snow plows.

Maintenance department road plow.

Maintenance department replacement small sweepers.

Maintenance department replacement road sweepers.

Runway 17 deicing pad operations center.

Brief Description of Projects Approved for Collection and Use at a $4.50 PFC Level:

Fire department replacement 1500 gallon aircraft rescue and firefighting vehicle.

Police department secured access control system conversion.

Facilities management automatic door lock system.

Brief Description of Disapproved Projects:

Airside operations replacement vehicle for Ops 44.

Determination: Airport operations vehicles are not included as safety or security equipment specifically required by Parts 139 or 1542. Therefore, this project did not meet the requirements of § 158.15(b).

Police department replacement of marked squad cars.

Determination: These three vehicles are not required by Part 1542. They are considered normal equipment needed to monitor traffic and to police airport property and roadways and do not fall under the eligibility criteria for security projects. Therefore, this project did not meet the requirements of § 158.15(b).

Police department replacement of investigative squad car.

Determination: This vehicle is not required by Part 1542. This vehicle is considered normal equipment needed for police activities associated with responsibilities of a major airport and does not fall under the eligibility criteria for security projects. Therefore, this project did not meet the requirements of § 158.15(b).

Maintenance department wheel loader fork lift.

Determination: This piece of equipment is not required by Part 1542. This attachment can be used for many normal airport maintenance projects unrelated to air security and, therefore, is considered a piece of equipment that could be expected to be in the inventory at any airport. Therefore, this project did not meet the requirements of § 158.15(b).

Decision Date: November 17, 2006.

FOR FURTHER INFORMATION CONTACT: Gordon Nelson, Minneapolis Airports District Office, (612) 713-4358.

Public Agency: County of Delta, Escanaba, Michigan.

Application Number: 06-08-C-00-ESC.

Application Type: Impose and use a PFC.

PFC Level: $4.50.

Total PFC Revenue Approved in this Decision: $322,158.

Earliest Charge Effective Date: April 1, 2006.

Estimated Charge Expiration Date: January 1, 2013.

Class of Air Carriers Not Required to Collect PFC's: Charters.

Determination: Approved. Based on information contained in the public agency's application, the FAA has determined that the approved class accounts for less than 1 percent of the total annual enplanements at Delta County Airport.

Brief Description of Projects Approved for Collection and Use: Terminal building renovation and expansion.

Rehabilitate taxiways and terminal apron.

Snow removal equipment: loader and blower with broom.

Decision Date: November 30, 2005.

FOR FURTHER INFORMATION CONTACT: Jason Watt, Detroit Airports District Office, (734) 229-2906.

Public Agency: Bradford Regional Airport Authority, Lewis Run, Pennsylvania.

Application Number: 06-05-C-00-BFD.

Application Type: Impose and use a PFC.

PFC Level: $4.50.

Total PFC Revenue Approved in this Decision: $76,134.

Earliest Charge Effective Date: July 1, 2013.

Estimated Charge Expiration Date: December 1, 2015.

Class of Air Carriers not Required to Collect PFC's: Air taxi/commercial operators filing FAA Form 1800-31.

Determination: Approved. Based on information contained in the public agency's application, the FAA has determined that the approved class accounts for less than 1 percent of the total annual enplanements at Bradford Regional Airport.

Brief Description of Projects Approved for Collection and Use: Extend public water and sewer.

Rehabilitate terminal building.

Runway 14 safety area improvements, phase I (study and design).

Conduct wildlife hazard assessment.

PFC application formulation and administration.

Decision Date: January 27, 2006.

FOR FURTHER INFORMATION CONTACT: Lori Ledebohm, Harrisburg Airports District Office, (717) 730-2835.

Public Agency: Little Rock Municipal Airport Commission, Little Rock, Arkansas.

Application Number: 06-05-C-00-LIT.

Application Type: Impose and use a PFC.

PFC Level: $4.50

Total PFC Revenue Approved in this Decision: $7,913.333.

Earliest Charge Effective Date: May 1, 2006.

Estimated Charge Expiration Date: October 1, 2007.

Class of Air Carriers not Required to Collect PFC'S: Air taxi/commercial operators filing FAA Form 1800-31.

Determination: Approved. Based on information contained in the public agency's application, the FAA has determined that the approved class accounts for less than 1 percent of the total annual enplanements at Little Rock National Airport.

Brief Description of Projects Approved for Collection and Use:

Part 150 property acquisition.

Extend runway 18/36 1,100 feet and associated development.

Acquire three 1,500-gallon aircraft rescue and firefighting vehicles.

Reconstruct terminal prescreening area.

Rehabilitate terminal and cargo ramps.

Improve airport drainage.

Relocate communications building.

Security enhancements.

Decision Date: January 31, 2006.

FOR FURTHER INFORMATION CONTACT: Glenn Boles, Arkansas/Oklahoma Airports Development Office, (817) 222-5661.

Public Agency: County of Oneida and City of Rhinelander, Rhinelander, Wisconsin.

Application Number: 06-09-C-00-RHI.

Application Type: Impose and use a PFC.

PFC Level: $4.50.

Total PFC Revenue Approved in this Decision: $1,039,392.

Earliest Charge Effective Date: April 1, 2006.

Estimated Charge Expiration Date: November 1, 2011.

Class of Air Carriers not Required to Collect PFC'S: Air taxi/commercial operators filing FAA Form 1800-31.

Determination: Approved. Based on information contained in the public agency's application, the FAA has determined that the approved class accounts for less than 1 percent of the total annual enplanements at Rhinelander/Oneida County Airport.

Brief Description of Project Approved for Collection and Use:

Security enhancements.

Wind cones.

Pavement marking/crack sealing.

Update airport layout plan.

Acquire snow removal equipment.

Terminal development design.

Terminal development.

PFC administration.

Decision Date: February 8, 2006.

FOR FURTHER INFORMATION CONTACT: Nancy Nistler, Minneapolis Airports District Office, (612) 713-4353.

Amendment to PFC Approvals

Amendment No. city, state | Amendment approved date | Original approved net PFC revenue | Amended approved net PFC revenue | Original estimated charge exp. date | Amended estimated charge exp. date.
04-08-C-01-RNO Reno, NV | 1/23/06 | $25,440,000 | 21,749,000 | 01/01/08 | 08/01/07
04-06-C-01-BUR Burbank, CA | 2/03/06 | 2,200,000 | 6,860,000 | 07/01/10 | 02/01/11

Issued in Washington, DC on May 1, 2006.
Joe Herbert,
Manager, Financial Analysis and Passenger Facility Charge Branch.

[FR Doc. 06-4263 Filed 5-4-06; 8:45 am]

BILLING CODE 4910-13-M